FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 002550-006.

Title: New Orleans/Maersk Lease.

Parties: Board of Commissioners of the Port of New Orleans

Synopsis: This amendment allows Maersk to handle non-Maersk and non-CSX cargo at the France Road Terminal Berth No. 1.

Agreement No.: 201026-003.

Title: New Orleans/P&O Ports Lease.

Parties: Board of Commissioners of the Port of New Orleans P&O Ports Louisiana, Inc.

Synopsis: This amendment revises the annual guarantee, provides for adjusted rates during the renewal period, and acknowledges the purchase by P&O Ports Louisiana, Inc. of the original lessee, Transocean Terminal Operators, Inc.

Agreement No.: 201030-003.

Title: New Orleans/P&O Ports/SSA Gulf Terminals Lease.

Parties: Board of Commissioners of the Port of New Orleans. P&O Ports Gulfport, Inc. SSA Gulf Terminals, Inc.

Synopsis: This amendment revises the annual guarantee, increases the size of the leased premises, and removes P&O Ports from any further obligations under the lease.

By Order of the Federal Maritime Commission.
Dated: August 30, 2002.
Bryant L. VanBrakle,
Secretary.

[FR Doc. 02-22644 Filed 9-5-02; 8:45 am]

BILLING CODE 6730-01-P